DEPARTMENT OF THE INTERIOR

Fish and Wildlife Service

50 CFR Part 17

RIN 1018-AG38

Endangered and Threatened Wildlife and Plants; Reopening of Public Comment Period and Notice of Availability of Draft Economic Analysis for Proposed Critical Habitat Determination for the Spruce-Fir Moss Spider; Correction

AGENCY: Fish and Wildlife Service, Interior.

ACTION: Proposed rule; notice of reopening of public comment period and availability of draft economic analysis; correction.

SUMMARY: We, the Fish and Wildlife Service, announced on February 12, 2001, the availability of the draft economic analysis for the proposed designation of critical habitat for the spruce-fir moss spider (Microhexura montivaga). We also provided notice that the public comment period for the proposal is reopened to allow all interested parties to submit written comments on the proposal and the draft economic analysis. However, the proposed rule incorrectly stated that comments would be accepted until April 13, 2001. The close of comment period should be March 14, 2001.

DATES: We will accept comments on the proposal and the draft economic analysis until March 14, 2001.

ADDRESSES: Copies of the draft economic analysis are available on the Internet at http://southeast.fws.gov/hotissues/hot_index.html or by writing to or calling the State Supervisor, Asheville Field Office, U.S. Fish and Wildlife Service, 160 Zillicoa Street, Asheville, North Carolina 28801; telephone 828/258-3939.

If you wish to comment, you may submit your comments by any one of several methods:

1. You may submit written comments and information to the State Supervisor, Asheville Field Office, U.S. Fish and Wildlife Service, 160 Zillicoa Street, Asheville, North Carolina 28801.

2. You may hand-deliver written comments to our Asheville Field Office, at the above address or fax your comments to 828/258-5330.

3. You may send comments by electronic mail (e-mail) to john_fridell@fws.gov. For directions on how to submit electronic filing of comments, see the “Public Comments Solicited” section.

Comments and materials received, as well as supporting documentation used in preparation of this proposed rule, will be available for public inspection, by appointment, during normal business hours at the above address.

FOR FURTHER INFORMATION CONTACT: John A. Fridell, Fish and Wildlife Biologist (see ADDRESSES section).

SUPPLEMENTARY INFORMATION: On February 12, 2001, we published a proposed rule in the Federal Register announcing the reopening of the public comment period and notice of availability of draft economic analysis for the proposed critical habitat determination for the spruce-fir moss spider. The DATES caption stated that comments should be submitted on or before April 13, 2001. The correct date for accepting comments from all interested parties is on or before March 14, 2001.

Accordingly, make the following correction to FR Doc. 01-2270 published at 66 FR 9806, on February 12, 2001:

On page 9807, in column one, correct the DATES caption to read as follows:

DATES: Interested parties must submit comments on or before March 14, 2001.

Dated: February 14, 2001.
Sam D. Hamilton,
Regional Director, Fish and Wildlife Service.

[FR Doc. 01-4718 Filed 2-26-01; 8:45 am]

BILLING CODE 4310-55-P